DEPARTMENT OF TRANSPORTATION

Federal Aviation Administration

14 CFR Part 39

[Docket No. FAA-2004-19998; Directorate Identifier 2004-NM-224-AD; Amendment 39-14097; AD 2005-10-20]

RIN 2120-AA64

Airworthiness Directives; Boeing Model 777-200 Series Airplanes

AGENCY: Federal Aviation Administration (FAA), Department of Transportation (DOT).

ACTION: Final rule.

SUMMARY: The FAA is adopting a new airworthiness directive (AD) for certain Boeing Model 777-200 series airplanes. This AD requires replacing the pressure switches on the override/jettison fuel pumps with new pressure switches, and replacing the ship side electrical connectors for the pressure switches on override/jettison fuel pumps with new connectors. This AD is prompted by reports that the “FUEL LOW CENTER” message does not activate when the fuel level in the center tank is low. We are issuing this AD to prevent the fuel pumps in the center fuel tank from running dry and becoming a potential ignition source, which could result in a fuel tank explosion.

DATES: This AD becomes effective June 23, 2005.

The incorporation by reference of a certain publication listed in the AD is approved by the Director of the Federal Register as of June 23, 2005.

ADDRESSES: For service information identified in this AD, contact Boeing Commercial Airplanes, P.O. Box 3707, Seattle, Washington 98124-2207.

Docket: AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19998; the directorate identifier for this docket is 2004-NM-224-AD.

FOR FURTHER INFORMATION CONTACT: Margaret Langsted, Aerospace Engineer, Propulsion Branch, ANM-140S, FAA, Seattle Aircraft Certification Office, 1601 Lind Avenue, SW., Renton, Washington 98055-4056; telephone (425) 917-6500; fax (425) 917-6590.

SUPPLEMENTARY INFORMATION: The FAA proposed to amend 14 CFR part 39 with an AD for certain Boeing Model 777-200 series airplanes. That action, published in the Federal Register on January 5, 2005 (70 FR 735), proposed to require replacing the pressure switches on the override/jettison fuel pumps with new pressure switches, and replacing the ship side electrical connectors for the pressure switches on override/jettison fuel pumps with new connectors.

Comments

We provided the public the opportunity to participate in the development of this AD. We have considered the comments that have been submitted on the proposed AD. One commenter concurs with the contents of the proposed AD.

Request To Clarify Applicability

One commenter states that there is a concern for possible misinterpretation of the applicability specified in the Summary and Applicability sections of the proposed AD. The commenter adds that the referenced service bulletin specifically identifies the affected airplanes, and it is only applicable to Boeing Model 777-200 series airplanes equipped with no center wing tank, and is not applicable to Boeing Model 777-200ER series airplanes. The commenter recommends clarification that Model 777-200ER series airplanes are not affected be added to the proposed AD.

We acknowledge the commenter's concern and offer clarification. The proposed AD is applicable to Boeing Model 777-200 series airplanes, certificated in any category; as identified in Boeing Special Attention Service Bulletin 777-28-0036, dated September 2, 2004. There are two center wing tank configurations certificated on the Model 777-200 series airplane; the referenced service bulletin identifies the airplanes that have the smaller tank configuration. The other Model 777-200 series airplanes, informally referred to by Boeing as Model 777-200ER airplanes, have a larger center wing tank and a different pump inlet configuration. Therefore, Model 777-200ER airplanes are not subject to the identified unsafe condition. We have not changed the final rule in this regard.

Request To Change the Costs of Compliance Section/Compliance Time

One commenter asks that the work hours shown in the estimated costs table in the proposed AD be reconsidered. The commenter estimates 5.5 work hours are necessary to perform the modification alone, without taking into account the time for access and close up. The commenter adds that it is unlikely that this modification can be scheduled on an overnight maintenance check, and would most likely be accomplished during maintenance base visits. In light of the above, the commenter notes that the 24-month compliance time allows little flexibility to negotiate unforeseen scheduling problems. The commenter states that any deadline requirement that is less than 24 months will require special maintenance visits beyond the current schedule to accomplish the modification.

We do not agree that it is necessary to change the work hours in this AD, which reflect only the direct costs of the specific required actions based on the best data available from the manufacturer. We recognize that operators may incur incidental costs (such as the time for planning and associated administrative actions) in addition to the direct costs. The cost analysis in ADs, however, typically does not include incidental costs. The 24-month compliance time in this AD should allow ample time for the majority of affected operators to do the required actions at the same time as scheduled major airplane inspection and maintenance activities, which would reduce the additional time and costs associated with special scheduling. We note that the 24-month compliance time is consistent with the compliance time specified in the referenced service bulletin. We have not changed the final rule in this regard.

Conclusion

We have carefully reviewed the available data, including the comments that have been submitted, and determined that air safety and the public interest require adopting the AD as proposed.

Costs of Compliance

There are about 61 airplanes of the affected design in the worldwide fleet. The following table provides the estimated costs for U.S. operators to comply with this AD.

Estimated Costs
Action | Work hours | Average labor rate per hour | Parts | Cost per airplane | Number of U.S.-registered airplanes | Fleet cost
Replacement | 3 | $65 | $13,430 | $13,625 | 21 | $286,125

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-10-20 Boeing: Amendment 39-14097. Docket No. FAA-2004-19998; Directorate Identifier 2004-NM-224-AD.

Effective Date

(a) This AD becomes effective June 23, 2005.

Affected ADs

(b) None.

Applicability

(c) This AD applies to Boeing Model 777-200 series airplanes, certificated in any category; as identified in Boeing Special Attention Service Bulletin 777-28-0036, dated September 2, 2004.

Unsafe Condition

(d) This AD was prompted by reports that the “FUEL LOW CENTER” message does not activate when the fuel level in the center tank is low. We are issuing this AD to prevent the fuel pumps in the center fuel tank from running dry and becoming a potential ignition source, which could result in a fuel tank explosion.

Compliance

(e) You are responsible for having the actions required by this AD performed within the compliance times specified, unless the actions have already been done.

Replacement

(f) Within 24 months after the effective date of this AD, replace the pressure switches on the override/jettison fuel pumps with new pressure switches, and replace the ship side electrical connectors for the pressure switches on the override/jettison fuel pumps with new connectors, in accordance with the Accomplishment Instructions of Boeing Special Attention Service Bulletin 777-28-0036, dated September 2, 2004.

Alternative Methods of Compliance (AMOCs)

(g) The Manager, Seattle Aircraft Certification Office, FAA, has the authority to approve AMOCs for this AD, if requested in accordance with the procedures found in 14 CFR 39.19.

Material Incorporated by Reference

(h) You must use Boeing Special Attention Service Bulletin 777-28-0036, dated September 2, 2004, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA).

For information on the availability of this material at the NARA, call (202) 741-6030, or go to http://www.archives.gov/federal_register/code_of_federal_regulations/ibr_locations.html.

Issued in Renton, Washington, on May 9, 2005.
Jeffrey E. Duven,
Acting Manager, Transport Airplane Directorate, Aircraft Certification Service.

[FR Doc. 05-9873 Filed 5-18-05; 8:45 am]

BILLING CODE 4910-13-P